COMMODITY FUTURES TRADING COMMISSION

Sunshine Act Meetings

Agency Holding the Meeting: Commodity Futures Trading Commission

Time And Date: 11 a.m., Friday September 4, 2009

Place: 1155 21st St., NW., Washington, DC, 9th Floor Commission Conference Room

Status: Closed

Matters To Be Considered: Surveillance matters

Contact Person for More Information: Sauntia S. Warfield, 202-418-5084.

Sauntia S. Warfield,
Assistant Secretary of the Commission.

[FR Doc. E9-21164 Filed 8-28-09; 4:15 pm]

BILLING CODE 6351-01-P